DEPARTMENT OF JUSTICE

Notice of Lodging of Consent Decree Pursuant to the Comprehensive Environmental Response, Compensation, and Liability Act

Notice is hereby given that a proposed consent decree was lodged on July 27, 2001 with the United States District Court for the Eastern District of California. The Consent Decree embodies a second settlement in United States v. Chevron USA Inc., et al., Civil Action No. F-98-5412 REC DLB. A prior consent decree was entered by the Court on December 21, 1998.

In the complaint filed concurrently with the lodging of the first consent decree, the United States sought injunctive relief for performance of response actions, and reimbursement for response costs incurred by the United States Environmental Protection Agency, in response to releases of hazardous substances at the Purity Oil Sales Superfund Site (“Site”), located near Fresno, California, pursuant to the Comprehensive Environmental Response, Compensation, and Liability Act (“CERCLA”), 42 U.S.C. 9601 et seq. The settling defendants agreed to contribute towards performance of future response actions at the Purity Site; defendant Chevron USA Inc. (“Chevron”) agreed to perform that work. Future work under the first consent decree includes operation and maintenance of the groundwater extraction and treatment system for the groundwater operable unit and construction, operation, and maintenance of the components of the soils operable unit.

The proposed consent decree provides for performance by Chevron of activities in connection with the temporary and permanent relocation of residents of the Tall Trees Trailer Park, located next to the Site. In addition, the proposed decree provides that EPA will reimburse Chevron for up to $1.5 million in costs incurred for performance of such activities.

The proposed consent decree includes a covenant-not-to-sue under Sections 106 and 107 of CERCLA, 42 U.S.C. 9606, 9607, and under section 7003 of the Resource Conservation and Recovery Act (“RCRA”), 42 U.S.C. 6973.

The Department of Justice will receive, for a period of thirty (30) days from the date of this publication, comments relating to the proposed consent decree. Comments should be addressed to the Assistant Attorney General for the Environment and Natural Resources Division, U.S. Department of Justice, Washington, DC 20530, and should refer to United States v. Chevron USA Inc., et al., DOJ Ref #90-11-2-355. Commenters may request a public hearing in the affected area, pursuant to section 7003(d) of RCRA, 42 U.S.C. 6973(d).

The proposed consent decree may be examined at the Region IX Office of the Environmental Protection Agency, 75 Hawthorne Street, San Francisco, California 94105. A copy of the proposed consent decree may also be obtained by mail from the Department of Justice Consent Decree Library, Box 7611, Ben Franklin Station, Washington, DC 20044-7611. In requesting a copy, please refer to the referenced case and enclose a check in the amount of $14.50 (25 cents per page reproduction costs), payable to the Consent Decree Library. A copy of the decree, exclusive of attachments, may be obtained for $20.50.

Ellen M. Mahan,
Assistant Section Chief, Environmental Enforcement Section, Environment and Natural Resources Division.

[FR Doc. 01-20641 Filed 8-15-01; 8:45 am]

BILLING CODE 4410-15-M